DEPARTMENT OF THE INTERIOR

Bureau of Ocean Energy Management

[Docket No. BOEM-2014-0050; MMAA104000]

Notice of Intent To Prepare an Environmental Assessment for Proposed Wind Energy-Related Development Activities on the Pacific Outer Continental Shelf (OCS) Offshore Oregon and Notice of Public Scoping Meetings

AGENCY: Bureau of Ocean Energy Management (BOEM), Interior.

ACTION: Notice of Intent.

SUMMARY: In compliance with the National Environmental Policy Act (NEPA) of 1969, as amended (42 U.S.C. 4231 et seq.), BOEM intends to prepare an Environmental Assessment (EA) to consider the reasonably foreseeable environmental consequences associated with the issuance of a lease and approval of plans proposed by Principle Power, Inc. (Principle Power) for wind energy-related development activities offshore Oregon. We are seeking public input regarding important environmental issues and the identification of alternatives that should be considered in the EA.

In addition to the request for written comments, we are holding two public scoping meetings to provide information and solicit comments on the scope of the EA. The meetings will be held from 1:00 p.m. to 4:00 p.m. and 5:00 p.m. to 8:00 p.m. PDT on Tuesday, June 17, 2014 at the Coos Bay Public Library, 525 Anderson Avenue, Coos Bay, Oregon 97420.

Authority: The Notice of Intent to prepare an EA is published pursuant to 43 CFR 46.305.

DATES: Comments should be submitted no later than July 28, 2014.

FOR FURTHER INFORMATION CONTACT: Greg Sanders, BOEM Pacific OCS Region, 770 Paseo Camarillo, 2nd Floor, Camarillo, California 93010; (805) 389-7863 or greg.sanders@boem.gov.

SUPPLEMENTARY INFORMATION:

1. Background

On May 15, 2013, BOEM received an unsolicited request from Principle Power for a commercial wind energy lease on the OCS offshore Coos Bay, Oregon. Principle Power's proposal, the WindFloat Pacific Project, is to install a floating wind energy demonstration facility approximately 16 nautical miles from shore in a water depth of approximately 1,400 feet. The total area being considered in the EA encompasses approximately 15 square miles. However, the lease will include only the portion of the 15-square-mile area necessary for project facilities. The project is designed to generate up to 30 megawatts (MW) of electricity from five floating WindFloat units, each equipped with a 6-MW offshore wind turbine. Each unit would be moored with multiple anchors to the seafloor, and be connected to a single transmission cable running along the seafloor to shore. Additional information on Principle Power's unsolicited lease request and maps of the proposed lease site can be viewed at http://www.boem.gov/State-Activities-Oregon/.

On September 30, 2013, we published a notice of the unsolicited lease request and a Request for Interest (RFI) to determine whether anyone had an interest in acquiring a commercial wind lease in the area identified by Principle Power (78 FR 59969). The notice also provided the opportunity for interested stakeholders to comment on the proposed lease area, the proposed project and potential impacts wind energy development may have on the area.

No indications of competitive interest were received in response to the notice, and BOEM published a Determination of No Competitive Interest on February 6, 2014 (79 FR 7225). Stakeholder comments received in response to the RFI are being considered during our scoping process.

2. Purpose and Need for Agency Action

BOEM will process Principle Power's unsolicited lease request under the provisions at 30 CFR Part 585, Renewable Energy and Alternate Uses of Existing Facilities on the Outer Continental Shelf. These regulations provide for lease issuance and approval of plans for construction and operation of renewable energy facilities.

3. Proposed Action and Scope of Analysis

BOEM's proposed action is the issuance of a commercial lease and the approval of a construction and operation plan for the WindFloat Pacific Project. The EA will consider the reasonably foreseeable environmental consequences associated with the proposed action, including the impacts of the construction, operation, maintenance and decommissioning of wind turbines and cables.

This notice is intended to further engage the public in the scoping process for this EA. We are soliciting information regarding important environmental issues and alternatives that should be considered in the EA. Alternatives currently under consideration include the proposal submitted by Principle Power and a no-action alternative. Environmental resources we expect to evaluate in the EA include benthic invertebrates, fish, birds, bats and marine mammals. We will also consider other human uses in the vicinity of the proposed project, including commercial and sport fishing, recreation and vessel traffic.

If at any time during preparation of the EA we determine that an environmental impact statement (EIS) is needed, we will issue a Notice of Intent (NOI) to prepare an EIS in the Federal Register. In that case, scoping comments you submit now will be considered for the development of an EIS.

4. Other Environmental Review and Consultation Processes

BOEM will also use responses to this notice and the EA public involvement process to satisfy the public involvement requirements of the National Historic Preservation Act (16 U.S.C. 470f), as provided in 36 CFR 800.2(d)(3). We are seeking information from the public on the identification of historic properties that may be affected by the WindFloat Pacific Project. The analyses contained within the EA also will support compliance with other environmental statutes (e.g., Endangered Species Act, Magnuson-Stevens Fishery Conservation and Management Act, Migratory Bird Treaty Act and Marine Mammal Protection Act).

5. Cooperating Agencies

It is BOEM's intent to prepare an EA that will inform all Federal decisions related to Principle Power's proposal, and we invite Federal, state and local government agencies to consider becoming cooperating agencies in the preparation of this EA. Council on Environmental Quality regulations implementing the procedural provisions of NEPA define cooperating agencies as those with “jurisdiction by law or special expertise” (40 CFR 1508.5). Potential cooperating agencies should consider their authority and capacity to assume the responsibilities of a cooperating agency and remember that an agency's role in the environmental analysis neither enlarges nor diminishes the final decision-making authority of any other agency involved in the NEPA process.

Even if an organization is not a cooperating agency, opportunities will exist to provide information and comments to BOEM during the normal public involvement phases of the NEPA process.

6. Comments

Federal, state, local government agencies, tribal governments and other interested parties are requested to send written comments on the important issues to be considered in the EA by any of the following methods:

1. Federal eRulemaking Portal: http://www.regulations.gov. In the field entitled “Enter Keyword or ID,” enter BOEM-2014-0050, and then click “search.” Follow the instructions to submit public comments and view supporting and related materials available for this notice;

2. By U.S. Postal Service or other delivery service, send your comments and information to the following address: Bureau of Ocean Energy Management, Pacific OCS Region, Attention: Greg Sanders, Office of Environment, 770 Paseo Camarillo, 2nd Floor, Camarillo, California 93010; or

3. In person at one of the EA public scoping meetings.

Before including your address, phone number, email address or other personal identifying information in your comment, you should be aware that your entire comment, including your personal identifying information may be made publicly available at any time. While you can ask us in your comments to withhold your personal identifying information from public review, we cannot guarantee that we will be able to do so.

Dated: May 14, 2014.
Walter D. Cruickshank,
Acting Director, Bureau of Ocean Energy Management.

[FR Doc. 2014-12066 Filed 5-23-14; 8:45 am]

BILLING CODE 4810-MR-P